DEPARTMENT OF COMMERCE

National Oceanic and Atmospheric Administration

Announcement of Elkhorn Slough, California National Estuarine Research Reserve Revised Management Plan

AGENCY: Estuarine Reserves Division, Office of Ocean and Coastal Resource Management, National Ocean Service, National Oceanic and Atmospheric Administration, U.S. Department of Commerce.

ACTION: Notice of Availability for the Revised Management Plan for the Elkhorn Slough National Estuarine Research Reserve.

SUMMARY: Notice is hereby given that the Estuarine Reserves Division, Office of Ocean and Coastal Resource Management, National Ocean Service, National Oceanic and Atmospheric Administration, U.S. Department of Commerce is announcing the availability of the updated Elkhorn Slough National Estuarine Research Reserve Management Plan.

The Elkhorn Slough National Estuarine Research Reserve was designated in 1979 pursuant to Section 315 of the Coastal Zone Management Act of 1972, as amended, 16 U.S.C. 1461. The Reserve has been operating under a management plan approved in 1985. Pursuant to 15 CFR 921.33(c), a state must revise its management plan every five years. The submission of this plan fulfills this requirement and sets a course for successful implementation of the goals and objectives of the reserve.

This plan contains important revisions to the original management plan developed for the Reserve. For the revision, the Reserve used a collaborative approach, which focused on integrating the Reserve's programs in order to better achieve conservation success. The plan describes the Reserve's long-term conservation goals and details the process involved in identifying those goals. It also maps out the objectives and strategies that the Reserve will use over the next five years in order to move toward accomplishing its goals. The plan also provides an overview of the Reserve's research and monitoring, education, stewardship, coastal training, volunteer, and administration programs and describes the Reserve's plan for public access, acquisition, and facilities.

FOR FURTHER INFORMATION CONTACT: Alison Krepp at (301) 713-3155 of NOAA's National Ocean Service, Estuarine Reserves Division, 1305 East-West Highway, N/ORM5, 10th floor, Silver Spring, MD 20910. For copies of the Elkhorn Slough National Estuarine Research Reserve Management Plan, please visit http://www.elkhornslough.org/.

Dated: September 21, 2007.
David M. Kennedy,
Director, Office of Ocean and Coastal Resource Management, National Oceanic and Atmospheric Administration.

[FR Doc. E7-19052 Filed 9-26-07; 8:45 am]

BILLING CODE 3510-08-P